DEPARTMENT OF ENERGY

Federal Energy Regulatory Commission

Combined Notice of Filings # 1

January 29, 2007.

Take notice that the Commission received the following electric corporate filings:

Docket Numbers: EC07-48-000.

Applicants: APT Generation, LLC; Dominion Armstrong, Inc.; Dominion Pleasants, Inc.; Dominion Troy, Inc.; CNG Power Services Corporation, Armstrong Energy Limited Partnership, LLLP, Pleasants Energy, LLC; Troy Energy, LLC; Dominion Energy Marketing, Inc.

Description: APT Generation, LLC et al. submit a joint application for any Commission approval deemed to be required pursuant to Section 203 of the FPA.

Filed Date: 01/19/2007.

Accession Number: 20070125-0195.

Comment Date: 5 p.m. Eastern Time on Friday, February 9, 2007.

Docket Numbers: EC07-49-000.

Applicants: American Electric Power Service Corporation; Columbus Southern Power Company.

Description: American Electric Power Service Corporation et al. submit a 203 application seeking authorization for sale of jurisdictional facilities and on 1/22/07 correction to the exhibits and pages 17 and 18 to its 1/19/06 application.

Filed Date: 01/19/2007; 1/22/07.

Accession Number: 20070125-0200; 20070125-0199.

Comment Date: 5 p.m. Eastern Time on Friday, February 9, 2007.

Take notice that the Commission received the following exempt wholesale generator filings:

Docket Numbers: EG07-32-000.

Applicants: Osceola Windpower, LLC.

Description: Osceola Windpower, LLC submits a Notice of Self-Certification of Exempt Wholesale Generator Status.

Filed Date: 01/25/2007.

Accession Number: 20070125-0184.

Comment Date: 5 p.m. Eastern Time on Thursday, February 15, 2007.

Docket Numbers: EG07-33-000.

Applicants: Airtricity Sand Bluff Wind Farm, LLC.

Description: Airtricity Sand Bluff Wind Farm, LLC submits a Notice of Self-Certification of Exempt Wholesale Generator Status.

Filed Date: 01/22/2007.

Accession Number: 20070125-0186.

Comment Date: 5 p.m. Eastern Time on Monday, February 12, 2007.

Docket Numbers: EG07-34-000.

Applicants: Airtricity Forest Creek Wind Farm, LLC.

Description: Airtricity Forest Creek Wind Farm, LLC submit a Notice of Self-Certification of Exempt Wholesale Generator Status.

Filed Date: 01/22/2007.

Accession Number: 20070125-0185.

Comment Date: 5 p.m. Eastern Time on Monday, February 12, 2007.

Take notice that the Commission received the following electric rate filings:

Docket Numbers: ER99-1293-009.

Applicants: Monmouth Energy, Inc.

Description: Monmouth Energy, Inc. submits its notice of non-material change in status related to a change in its upstream ownership pursuant to section 35.27 of FERC's Reg.

Filed Date: 01/24/2007.

Accession Number: 20070125-0241.

Comment Date: 5 p.m. Eastern Time on Wednesday, February 14, 2007.

Docket Numbers: ER04-925-014.

Applicants: Merrill Lynch Commodities, Inc.

Description: Merrill Lynch Commodities, Inc. reports the changes in status in accordance with Order 652 and its market-based rate authorization.

Filed Date: 01/22/2007.

Accession Number: 20070123-0136.

Comment Date: 5 p.m. Eastern Time on Monday, February 12, 2007.

Docket Numbers: ER04-1153-002; ER03-736-004.

Applicants: CAM Energy Products, LP; CAM Energy Trading LLC.

Description: CAM Energy Products LP et al. notifies FERC of a change in status with regard to the representations upon which the Commission relied in granting market-based rate authority.

Filed Date: 01/25/2007.

Accession Number: 20070129-0035.

Comment Date: 5 p.m. Eastern Time on Thursday, February 15, 2007.

Docket Numbers: ER05-6-093.

Applicants: PJM Settling Parties; Midwest Independent Transmission System Operator, Inc.

Description: PJM Settling Parties and the Midwest ISO Settling Parties submit a Stipulation and Agreement, Explanatory Statement.

Filed Date: 01/18/2007.

Accession Number: 20070124-0265.

Comment Date: 5 p.m. Eastern Time on Thursday, February 8, 2007.

Docket Numbers: ER05-699-003.

Applicants: Xcel Energy Services, Inc.

Description: Xcel Energy Services, Inc on behalf of Northern States Power Co et al. submits revised and restated GFA Municipal Transmission Service Agreement with City of Hillsboro, ND etc. pursuant to FERC's 10/25/06 Order.

Filed Date: 01/24/2007.

Accession Number: 20070125-0243.

Comment Date: 5 p.m. Eastern Time on Wednesday, February 14, 2007.

Docket Numbers: ER06-1177-003.

Applicants: PJM Interconnection, LLC.

Description: PJM Interconnection, LLC amends its 12/8/06 revisions to the PJM Open Access Transmission Tariff in compliance with FERC's 11/9/06 Order.

Filed Date: 01/24/2007.

Accession Number: 20070125-0242.

Comment Date: 5 p.m. Eastern Time on Wednesday, February 14, 2007.

Docket Numbers: ER06-1552-002.

Applicants: Midwest Independent Transmission System Operator, Inc.

Description: Midwest ISO submits proposed revisions to its OAT&EMT and on 1/24/07 submitted corrections to this filing.

Filed Date: 01/23/2007; 1/24/2007.

Accession Number: 20070125-0032.

Comment Date: 5 p.m. Eastern Time on Tuesday, February 13, 2007.

Docket Numbers: ER07-59-002.

Applicants: Fortis Energy Marketing & Trading GP.

Description: Fortis Energy Marketing and Trading GP submits a notice of non-material change in status.

Filed Date: 01/23/2007.

Accession Number: 20070125-0033.

Comment Date: 5 p.m. Eastern Time on Tuesday, February 13, 2007.

Docket Numbers: ER07-110-003.

Applicants: BTEC New Albany LLC.

Description: BTEC New Albany LLC submits its Third Revised Sheet 1 to its FERC Electric Tariff in order to clarify that no sales to affiliates with a franchised service territory will occur without first receiving FERC approval.

Filed Date: 01/25/2007.

Accession Number: 20070126-0071.

Comment Date: 5 p.m. Eastern Time on Thursday, February 15, 2007.

Docket Numbers: ER07-153-001.

Applicants: Ameren Services Company.

Description: Ameren Services Company submits revisions to the Ameren Illinois Operating Companies Ancillary Service Tariff.

Filed Date: 01/24/2007.

Accession Number: 20070125-0244.

Comment Date: 5 p.m. Eastern Time on Wednesday, February 14, 2007.

Docket Numbers: ER07-240-001.

Applicants: Twin Buttes Wind LLC.

Description: Twin Buttes Wind LLC submits a clarification that part of its application for market based authority and requests certain typographical revisions to Original Sheet 1 of the FERC Electric Tariff 1.

Filed Date: 01/23/2007.

Accession Number: 20070125-0034.

Comment Date: 5 p.m. Eastern Time on Tuesday, February 13, 2007.

Docket Numbers: ER07-242-001.

Applicants: MinnDakota Wind LLC.

Description: MinnDakota Wind LLC submits a clarification that as part of its application for market-based rate authority, that neither MinnDakota nor any of its affiliates own or control transmission assets in any control area etc.

Filed Date: 01/23/2007.

Accession Number: 20070125-0035.

Comment Date: 5 p.m. Eastern Time on Tuesday, February 13, 2007.

Docket Numbers: ER07-259-001.

Applicants: Cleco Energy LLC.

Description: Cleco Power, LLC submits revised unexecuted Joint Interface Facility Operating and Maintenance Agreement with Entergy Services, Inc. et al. pursuant to Order 614.

Filed Date: 01/25/2007.

Accession Number: 20070126-0072.

Comment Date: 5 p.m. Eastern Time on Thursday, February 15, 2007.

Docket Numbers: ER07-395-001.

Applicants: ALLETE, Inc.

Description: ALLETE, Inc. amends its 12/29/06 filing to include notices of termination for certain agreements for partial requirements service with Hibbing Public Utility Commission, effective 1/1/07.

Filed Date: 01/24/2007.

Accession Number: 20070125-0240.

Comment Date: 5 p.m. Eastern Time on Wednesday, February 14, 2007.

Docket Numbers: ER07-448-000.

Applicants: Xcel Energy Services Inc.

Description: Public Service Company of Colorado submits a Standard Large Generation Interconnection Agreement with Plains End II, LLC.

Filed Date: 01/22/2007.

Accession Number: 20070125-0156.

Comment Date: 5 p.m. Eastern Time on Monday, February 12, 2006.

Docket Numbers: ER07-451-000.

Applicants: Xcel Energy Operating Companies.

Description: Southwestern Public Service Company submits a Connection Agreement w/ Golden Spread Electric Cooperative, Inc. pursuant to Part 35 of FERC's Rules and Regs.

Filed Date: 01/23/2007.

Accession Number: 20070125-0036.

Comment Date: 5 p.m. Eastern Time on Tuesday, February 13, 2007.

Docket Numbers: ER07-453-000.

Applicants: Wolverine Power Supply Cooperative, Inc.

Description: Wolverine Power Supply Cooperative, Inc. submits an executed Wholesale Facilities Agreement for Construction of a Distribution Substation.

Filed Date: 01/23/2007.

Accession Number: 20070125-0182.

Comment Date: 5 p.m. Eastern Time on Tuesday, February 13, 2007.

Docket Numbers: ER07-454-000.

Applicants: LSP South Bay, LLC.

Description: LSP South Bay, LLC submits revisions to its Reliability Must Run Agreement with California Independent System Operator Corp.

Filed Date: 01/24/2007.

Accession Number: 20070125-0183.

Comment Date: 5 p.m. Eastern Time on Wednesday, February 14, 2007.

Docket Numbers: ER07-455-000.

Applicants: Dighton Power Associates, L.P.

Description: Dighton Power Associates, LP submits a Notice of Cancellation of its FERC Electric Tariff 1.

Filed Date: 01/24/2007.

Accession Number: 20070125-0239.

Comment Date: 5 p.m. Eastern Time on Wednesday, February 14, 2007.

Docket Numbers: ER07-456-000.

Applicants: American Electric Power System Corporation.

Description: American Electric Power Service Corporation, agent for Indiana Michigan Power Co submits an executed Letter Agreement between AEPSC and Michigan Electric Transmission Co dated 1/2/07.

Filed Date: 01/25/2007.

Accession Number: 20070126-0070.

Comment Date: 5 p.m. Eastern Time on Thursday, February 15, 2007.

Docket Numbers: ER07-457-000.

Applicants: E.ON U.S., LLC.

Description: E.ON U.S. LLC on behalf of Kentucky Utilities Co submits an executed Interconnection Agreement with Big Rivers Electric Corporation.

Filed Date: 01/25/2007.

Accession Number: 20070126-0267.

Comment Date: 5 p.m. Eastern Time on Thursday, February 15, 2007.

Docket Numbers: ER07-458-000.

Applicants: E.ON U.S., LLC.

Description: E.ON U.S. LLC on behalf of Kentucky Utilities Company submits a notice of termination of KU Rate Schedule 201 as amended with Big Rivers Electric Corporation.

Filed Date: 01/25/2007.

Accession Number: 20070126-0266.

Comment Date: 5 p.m. Eastern Time on Thursday, February 15, 2007.

Docket Numbers: ER07-459-000.

Applicants: Vermont Transco LLC.

Description: Vermont Transco LLC submits revisions to the 1991 Transmission Agreement that reflects the unique public-private partnership with Vermont Public Service Board et al.

Filed Date: 01/25/2007.

Accession Number: 20070126-0265.

Comment Date: 5 p.m. Eastern Time on Thursday, February 15, 2007.

Docket Numbers: ER07-460-000.

Applicants: Dillon Wind LLC.

Description: Dillon Wind LLC submits an initial electric tariff, a request for granting of authorization and blanket authority and for waiver of certain requirements.

Filed Date: 01/25/2007.

Accession Number: 20070126-0264.

Comment Date: 5 p.m. Eastern Time on Thursday, February 15, 2007.

Docket Numbers: ER07-461-000.

Applicants: Allegheny Power.

Description: Allegheny Power submits a Notice of Cancellation of the Interconnection and Operating Agreement with Allegheny Energy Supply Co, LLC.

Filed Date: 01/25/2007.

Accession Number: 20070126-0263.

Comment Date: 5 p.m. Eastern Time on Thursday, February 15, 2007.

Docket Numbers: ER07-462-000.

Applicants: Allegheny Power.

Description: Allegheny Power submits a Notice of Cancellation of the Interconnection and Operating Agreement with Allegheny Energy Supply Co, LLC.

Filed Date: 01/25/2007.

Accession Number: 20070126-0262.

Comment Date: 5 p.m. Eastern Time on Thursday, February 15, 2007.

Docket Numbers: ER07-463-000.

Applicants: Allegheny Power.

Description: Allegheny Power submits a Notice of Cancellation of the Interconnection and Operating Agreement with Allegheny Energy Supply Co, LLC.

Filed Date: 01/25/2007.

Accession Number: 20070126-0260.

Comment Date: 5 p.m. Eastern Time on Thursday, February 15, 2007.

Docket Numbers: ER07-464-000.

Applicants: Allegheny Power.

Description: Allegheny Power submits Notice of Cancellation of the Interconnection and Operating Agreement with Allegheny Energy Supply Co LLC, 3/6/02, Service Agreement 385, FERC Electric Tariff, 2nd Rev Vol 5.

Filed Date: 01/25/2007.

Accession Number: 20070126-0261.

Comment Date: 5 p.m. Eastern Time on Thursday, February 15, 2007.

Docket Numbers: ER07-469-000.

Applicants: Pacific Gas and Electric Company.

Description: Pacific Gas and Electric Company submits its quarterly filing of Facilities Agreements w/the City and County of San Francisco pursuant to the Procedures Implementation of Section 3.3 of the 1987 Agreement.

Filed Date: 01/26/2007.

Accession Number: 20070129-0033.

Comment Date: 5 p.m. Eastern Time on Friday, February 16, 2007.

Docket Numbers: ER07-470-000.

Applicants: Arizona Public Service Company.

Description: Arizona Public Service Co submits an executed Service Agreement for network integration transmission service with Arizona Public Service Company Marketing & Trading.

Filed Date: 01/26/2007.

Accession Number: 20070129-0036.

Comment Date: 5 p.m. Eastern Time on Friday, February 16, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed dockets(s). For assistance with any FERC Online service, please email FERCOnlineSupport@ferc.gov. or call (866) 208-3676 (toll free). For TTY, call (202) 502-8659.

Magalie R. Salas,
Secretary.

[FR Doc. E7-1739 Filed 2-1-07; 8:45 am]

BILLING CODE 6717-01-P